Title 3—

The President

Proclamation 7438 of May 16, 2001

National Biotechnology Week

By the President of the United States of America

A Proclamation

For thousands of years, man has been utilizing and modifying biological processes to improve man's quality of life. Scientific advances have enabled biotechnology to play an increasingly large role in the development of new products that enhance all areas of our lives.

In the battle against disease, our ever-increasing knowledge of cellular and genetic processes continues to improve the quality of our health care. Biotechnology has contributed to the development of vaccines, antibiotics, and other drugs that have saved or prolonged the lives of millions of people. Insulin, which is vital in the treatment of diabetes, can now be produced inexpensively and in large quantities through the use of genetically engineered bacteria. In addition, exciting gains in the understanding of the human body's genetic code show significant promise in finding treatments and eventually a cure for many diseases. This technology is now central to the research being conducted on diseases such as cancer, diabetes, epilepsy, multiple sclerosis, heart and lung disease, Alzheimer's disease, and Acquired Immune Deficiency Syndrome (AIDS).

Consumers enjoy continual improvements to the quality and quantity of our Nation's food supply. Genetic engineering will enable farmers to modify crops so that they will grow on land that was previously considered infertile. In addition, it will enable farmers to grow produce with enhanced nutritional value. We also are benefiting from crops that resist plant diseases and insects, thus reducing the use of pesticides.

The environmental benefits of biotechnology can be realized through the increased ability of manufacturers to produce their products with less energy, pollution, and waste. In addition, the development of new biotechnology promises to improve our ability to clean up toxic substances from soil and water and improve waste management techniques.

Our Nation stands as a global leader in research and development, in large part because of our successes in understanding and utilizing the biological processes of life. The field of biotechnology is important to the quality of our lives, the protection of our environment, and the strength of our economy. We must continue to be leaders in the pursuit of knowledge and technology, and we must be vigilant to ensure that new technologies are regulated and used responsibly towards achieving noble goals.

NOW, THEREFORE, I, GEORGE W. BUSH, President of the United States of America, by virtue of the authority vested in me by the Constitution and laws of the United States, do hereby proclaim May 13 through May 19, 2001, as National Biotechnology Week. I call upon the people of the United States to observe this week with appropriate programs, ceremonies, and activities.

IN WITNESS WHEREOF, I have hereunto set my hand this sixteenth day of May, in the year of our Lord two thousand one, and of the Independence of the United States of America the two hundred and twenty-fifth.

B

[FR Doc. 01-12966

Filed 5-18-01; 8:45 am]

Billing code 3195-01-P